ENVIRONMENTAL PROTECTION AGENCY

[ER-FRL-6647-2]

Environmental Impact Statements; Notice of Availability

RESPONSIBLE AGENCY: Office of Federal Activities, general information (202) 564-7167 or http://www.epa.gov/compliance/nepa.

Weekly receipt of Environmental Impact Statements

Filed December 29, 2003, through January 2, 2004

Pursuant to 40 CFR 1506.9.

EIS No. 030591, Final EIS, AFS, ID, Big Bend Ridge Vegetation Management Project and Timber Sale, provision of forest products on a sustained yield basis, Caribou-Targhee National Forest, Ashton/Island Park Ranger District, Fremont County, ID, wait period ends: February 9, 2004, contact: Melissa Jenkins (208) 624-3151.

EIS No. 030592, Draft EIS, FHW, MI, I-75 from M-102 to M-59 proposed widening and reconstruction, transportation improvements, funding, NPDES permit and U.S. Army COE section 404 permit, Oakland County, MI, comment period ends: February 23, 2004, contact: Abdelmoez Abdalla (517) 702-1820.

EIS No. 030593, Draft EIS, AFS, UT, WY, East Fork Fire Salvage Project timber harvesting of dead and dying trees, implementation, Wasatch-Cache National Forest, Evanston Ranger District, Summit County, UT, comment period ends: February 23, 2004, contact: Steve Ryberg (307) 789-3194. This document is available on the Internet at: http://www.fs.fed.us/r4/wcnf.

EIS No. 030594, Final EIS, BLM, NM, Sierra and Otero Counties Resource Management Plan amendment and Federal fluid minerals leasing and development, implementation, Sierra and Otero Counties, NM, wait period ends: February 9, 2004, contact: Tom Phillips (505) 525-4377. This document is available on the Internet at: http://www.nm.blm.gov.

Amended Notices

EIS No. 030536, Final EIS, SFW, WA, Daybreak Mine Expansion and Habitat Enhancement Project, habitat conservation plan, and issuance of a multiple species permit for incidental take, implementation, Clark County, WA, wait period ends: January 28, 2004, contact: Tim Romanski (360) 753-5823. Revision of Federal Register notice published on 11/28/03: CEQ wait period ending 12/29/2003 has been extended to 01/28/2004.

EIS No. 030574, Final EIS, FHW, IN, I-69 Evansville to Indianapolis Corridor Study, I-69 completion in southwestern Indiana and corridor selection, IN, wait period ends: February 2, 2004, contact: Robert Dirks (317) 226-7492. Revision of Federal Register notice published on 12/24/2003: correction of wait period from 01/22/2004 to 02/02/2004.

EIS No. 030576, Final EIS, FHW, ND, US 2 highway transportation improvements from near U.S. 85 (milepost 31.93) to west of U.S. 52 (milepost 131.24), funding, NPDES and U.S. Army COE section 404 permits issuance, Williams, Mountrail and Ward Counties, ND, wait period ends: January 22, 2004, contact: Mark Schrader (701) 250-4343 Ext.111. Revision of Federal Register notice published on 01/02/2004. Correction to status from draft to final.

Dated: January 6, 2004.
Ken Mittelholtz,
Environmental Protection Specialist, Office of Federal Activities.

[FR Doc. 04-455 Filed 1-8-04; 8:45 am]

BILLING CODE 6560-50-P